DEPARTMENT OF HOUSING AND URBAN DEVELOPMENT

[Docket No. FR-5612-N-01]

Notice of Proposed Information Collection: Comment Request OSHC Financial Reporting Form

AGENCY: Office of Sustainable Housing and Communities (OSHC), Department of Housing and Urban Development (HUD).

ACTION: Notice.

SUMMARY: The proposed information collection requirement described below will be submitted to the Office of Management and Budget (OMB) for review, as required by the Paperwork Reduction Act. The Department is soliciting public comments on the subject proposal.

The Department of Defense and Full-Year Continuing Appropriations Act, 2011 (Pub. L. 112-10, approved April 15, 2011) (Appropriations Act), provided a total of $100,000,000 to HUD for a Sustainable Communities Initiative to improve regional planning efforts that integrate housing and transportation decisions, and increase the capacity to improve land use and zoning. Of that total, $70,000,000 is available for the Sustainable Communities Regional Planning Grant Program, and $30,000,000 is available for the Community Challenge Planning Grant Program.

The Department of Housing and Urban Development's Sustainable Communities Initiative (SCI) Planning Grant Programs, which comprise of the Sustainable Communities Regional Planning Grant Program and the Community Challenge Planning Grant Program, require the financial reporting by grantees. This tracking of grantee financial data is solely in regards to the HUD-OSHC SCI grant. Such tracking is obligatory during the prescribed reporting periods, reimbursement requests for award funds, proof of in-kind contributions toward grant match funding, and the close-out of the award.

DATES: Comments Due Date: August 21, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Thaddeus Wincek, Office of Sustainable Housing and Communities, Department of Housing and Urban Development, 451 7th Street SW., Washington, DC 20410, telephone (202) 402-6617 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: OSHC Financial Reporting Form.

OMB Control Number, if applicable: N/A.

Description of the need for the information and proposed use: The Department of Defense and Full-Year Continuing Appropriations Act, 2011 (Pub. L. 112-10, approved April 15, 2011) (Appropriations Act), provided a total of $100,000,000 to HUD for a Sustainable Communities Initiative to improve regional planning efforts that integrate housing and transportation decisions, and increase the capacity to improve land use and zoning. Of that total, $70,000,000 is available for the Sustainable Communities Regional Planning Grant Program, and $30,000,000 is available for the Community Challenge Planning Grant Program.

The Department of Housing and Urban Development`s Sustainable Communities Initiative (SCI) Planning Grant Programs, which comprise of the Sustainable Communities Regional Planning Grant Program and the Community Challenge Planning Grant Program, require the financial reporting by grantees. This tracking of grantee financial data is solely in regards to the HUD-OSHC SCI grant. Such tracking is obligatory during the prescribed reporting periods, reimbursement requests for award funds, proof of in-kind contributions toward grant match funding, and the close-out of the award.

Agency form numbers, if applicable: N/A.

Estimation of the total numbers of hours needed to prepare the information collection including number of respondents, frequency of response, and hours of response: The number of burden hours is 300. The number of respondents is 200, the number of responses is 1200, the frequency of response is on occasion, and the burden hour per response is 0.25.

Status of the proposed information collection: This is a revision of a currently approved collection.

Authority: The Paperwork Reduction Act of 1995, 44 U.S.C., Chapter 35, as amended.

Dated: June 14, 2012.
Shelley Poticha,
Director, Office of Sustainable Housing and Communities, U.S. Department of Housing and Urban Development.

[FR Doc. 2012-15319 Filed 6-21-12; 8:45 am]

BILLING CODE 4210-67-P